DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR part 44 govern the application, processing, and disposition of petitions for modification. This Federal Register Notice notifies the public that MSHA has investigated and issued a final decision on certain mine operator petitions to modify a safety standard.

ADDRESSES: Copies of the final decisions are posted on MSHA's Web site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign-in.

FOR FURTHER INFORMATION CONTACT: Roslyn B. Fontaine, Office of Standards, Regulations and Variances at 202-693-9475 (Voice), fontaine.roslyn@dol.gov (Email), or 202-693-9441 (Telefax), or Barbara Barron at 202-693-9447 (Voice), barron.barbara@dol.gov (Email), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) an alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2011-007-C.

FR Notice: 76 FR 22149 (April 20, 2011).

Petitioner: Rosebud Mining Company, P.O. Box 1025, Northern Cambria, Pennsylvania 15714.

Mines: Beaver Valley Mine, MSHA Mine I.D No. 36-08725, located in Beaver County, Pennsylvania. Bergholz Mine, MSHA Mine I.D No. 33-04565, located in Jefferson County, Ohio. Dutch Run Mine, MSHA Mine I.D No. 36-08701; Darmac No. 2 Mine, MSHA I.D. No. 36-08135; and Logansport Mine, MSHA I.D. No. 36-08841, located in Armstrong County, Pennsylvania. Harmony Mine, MSHA Mine I.D No. 36-09477, located in Clearfield County, Pennsylvania. Rossmoyne Mine, MSHA Mine I.D No. 36-09075; Knob Creek Mine, MSHA I.D. No. 36-09394; Starford Mine, MSHA I.D. No. 36-09637, located in Indiana County, Pennsylvania. Tusky Mine, MSHA I.D. No. 33-04509, located in Tuscarawas County, Ohio. Twin Rocks Mine, MSHA I.D. No. 36-08836, located in Cambria County, Pennsylvania.

Regulation Affected: 30 CFR 75.503 (Permissible electric face equipment; maintenance) and 30 CFR 18.35(a)(5)(i) (Portable trailing cables and cords).

• Docket Number: M-2011-016-C.

FR Notice: 76 FR 37835 (June 28, 2011).

Petitioner: Midland Trail Energy, LLC, 3301 Point Lick Drive, Charleston, West Virginia 25306.

Mine: Campbells Creek No. 4 Deep Mine, MSHA I.D. No. 46-08437, located in Kanawha County, West Virginia.

Regulation Affected: 30 CFR 77.214(b) (Refuse piles; general).

• Docket Number: M-2011-033-C.

FR Notice: 76 FR 64385 (October 18, 2011).

Petitioner: ACI Tygart Complex, 1200 Tygart Drive, Grafton, West Virginia 26354.

Mine: Tygart #1 Mine, MSHA I.D. No. 46-09192, located in Taylor County, West Virginia.

Regulation Affected: 30 CFR 75.503 (Permissible electric face equipment; maintenance) and 30 CFR 18.35 (Portable trailing cables and cords).

• Docket Number: M-2011-034-C.

FR Notice: 76 FR 69765 (November 9, 2011).

Petitioner: Greenfields Coal Company, LLC, 550 North Eisenhower Drive, Suite B, Beckley, West Virginia 25801.

Mine: Alpheus Refuse Site, MSHA Mine I.D. No. 46-08438, located in McDowell County, West Virginia.

Regulation Affected: 30 CFR 77.214(a) (Refuse piles; general).

• Docket Number: M-2011-035-C.

FR Notice: 76 FR 69765 (November 9, 2011).

Petitioner: West Virginia Mine Power, Inc., P.O. Box 574, Rupert, West Virginia 25984-0574.

Mine: Midland Trail Mine No. 2, MSHA I.D. No. 46-08909, located in Greenbrier County, West Virginia.

Regulation Affected: 30 CFR 75.1101-1(b) (Deluge-type water spray system).

• Docket Number: M-2011-039-C.

FR Notice: 77 FR 812 (January 6, 2012).

Petitioner: Midland Trail Energy, LLC, 42 Rensford Star Route, Charleston, West Virginia 25306.

Mine: Blue Creek No. 1 Mine, MSHA I.D. No. 46-09297, located in Kanawha County, West Virginia.

Regulation Affected: 30 CFR 75.503 (Permissible electric face equipment; maintenance).

• Docket Number: M-2011-004-M.

FR Notice: 76 FR 37831 (June 28, 2011).

Petitioner: Troy Mine, Inc., P.O. Box 1660, Highway 56 South Mine Road, Troy, Montana 59935.

Mine: Troy Mine, MSHA I.D. No. 24-01467, located in Lincoln County, Montana.

Regulation Affected: 30 CFR 57.11052(d) (Refuge areas).

• Docket Number: M-2012-065-C.

FR Notice: 77 FR 27088 (May 8, 2012).

Petitioner: ICG Tygart Valley, LLC, 1200 Tygart Drive, Grafton, West Virginia 26354.

Mine: Tygart #1 Mine, MSHA I.D. No. 46-09192, located in Taylor County, West Virginia.

Regulation Affected: 30 CFR 75.1700 (Oil and gas wells).

• Docket Number: M-2012-067-C.

FR Notice: 77 FR 27093 (May 8, 2012).

Petitioner: Sunrise Coal, LLC, 1183 East Canvasback Drive, Terre Haute, Indiana 47802.

Mine: Carlisle Mine, MSHA I.D. No. 12-02349, located in Sullivan County, Indiana.

Regulation Affected: 30 CFR 75.705 (Work on high-voltage lines; deenergizing and grounding).

• Docket Number: M-2012-068-C.

FR Notice: 77 FR 27093 (May 8, 2012).

Petitioner: Little Buck Coal Company #2, 33 Pine Lane, Pine Grove, Pennsylvania 17963.

Mine: Buck Mt. Slope Mine, MSHA I.D. No. 36-09860, located in Schuylkill County, Pennsylvania.

Regulation Affected: 30 CFR 75.1200(d) and (i) (Mine maps).

• Docket Number: M-2012-069-C.

FR Notice: 77 FR 27094 (May 8, 2012).

Petitioner: Little Buck Coal Company #2, 33 Pine Lane, Pine Grove, Pennsylvania 17963.

Mine: Buck Mt. Slope Mine, MSHA I.D. No. 36-09860, located in Schuylkill County, Pennsylvania.

Regulation Affected: 30 CFR 75.1202 and 75.1202-1(a) (Temporary notations, revisions, and supplements).

• Docket Number: M-2012-076-C.

FR Notice: 77 FR 30556 (May 23, 2012).

Petitioner: Mountain Coal Company, LLC, P.O. Box 591, 5174 Highway 133, Somerset, Colorado 81434.

Mine: West Elk Mine, MSHA I.D. No. 05-03672, located in Gunnison County, Colorado.

Regulation Affected: 30 CFR 75.1002 (Installation of electric equipment and conductors; permissibility).

• Docket Number: M-2012-095-C.

FR Notice: 77 FR 37935 (June 25, 2012).

Petitioner: Bledsoe Coal Corporation, Route 2008, Box 351A, Big Laurel, Kentucky 40808.

Mine: Mine No. 4, MSHA I.D. No. 15-11065, located in Leslie County, Kentucky.

Regulation Affected: 30 CFR 77.214(a) (Refuse piles; general).

• Docket Number: M-2012-096-C.

FR Notice: 77 FR 38325 (June 27, 2012).

Petitioner: Mountain Coal Company, LLC, P.O. Box 591, 5174 Highway 133, Somerset, Colorado 81434.

Mine: West Elk Mine, MSHA I.D. No. 05-03672, located in Gunnison County, Colorado.

Regulation Affected: 30 CFR 75.503 (Permissible electric face equipment; maintenance) and 30 CFR 18.35(a)(5)(i) (Portable trailing cables and cords).

• Docket Number: M-2012-172-C.

FR Notice: 78 FR 3033 (January 15, 2013).

Petitioner: South Central Coal Company, Inc., P.O. Box 6, Spiro, Oklahoma 74959.

Mine: P8 North Mine, MSHA I.D. No. 34-02080, located in Le Flore County, Oklahoma.

Regulation Affected: 30 CFR 75.1700 (Oil and gas wells).

• Docket Number: M-2012-008-M.

FR Notice: 77 FR 59674 (September 28, 2012).

Petitioner: U.S. Silica Company, 2496 Hancock Road, Berkeley Springs, West Virginia 25411.

Mine: Berkeley Plant, MSHA I.D. No. 46-02805, located in Morgan County, West Virginia.

Regulation Affected: 30 CFR 56.13020 (Use of compressed air).

Dated: August 9, 2013.
George F. Triebsch,
Director, Office of Standards, Regulations and Variances.

[FR Doc. 2013-19768 Filed 8-14-13; 8:45 am]

BILLING CODE 4510-43-P